DEPARTMENT OF HOMELAND SECURITY

Coast Guard

33 CFR Parts 104, 160, and 165

46 CFR Parts 2, 31, 71, 91, 115, 126, and 176

[USCG-2003-14749]

RIN 1625-AA46

Vessel Security; Correction

AGENCY: Coast Guard, DHS.

ACTION: Correcting amendments.

SUMMARY: On July 1, 2003, the Coast Guard published a temporary interim rule with request for comments and notice of meeting in the Federal Register concerning the implementation of national maritime security initiatives for vessels. This document contains corrections to that rule.

DATES: Effective on July 1, 2003.

FOR FURTHER INFORMATION CONTACT: For information concerning this document, write or call Lieutenant Commander Kevin Oditt (G-MP), U.S. Coast Guard by telephone 202-267-1103, toll-free telephone 1-800-842-8740 ext. 7-1103, or by electronic mail msregs@comdt.uscg.mil. If you have questions on viewing or submitting material to the docket, call Dorothy Beard, Chief, Dockets, Department of Transportation, at telephone 202-366-5149.

SUPPLEMENTARY INFORMATION: The Coast Guard published a temporary interim rule with request for comments and notice of meeting in the Federal Register on July 1, 2003, (68 FR 39292). The rule contained typographical errors and omissions that may prove to be misleading and therefore need to be corrected.

Corrections to the Preamble

In the temporary interim rule FR Doc. 03-16188, published in the Federal Register on July 1, 2003, make the following corrections:

1. On page 39293, in the first column, under DATES in the second paragraph, on line 3, add the date “July 31, 2003” after the word “before”.

2. On page 39293, in the second column, under For Further Information Contact: correct the words “Transportation, and telephone” to read “Transportation at telephone”.

3. On page 39294, in the second column, on the last line, correct the words “part B, of will” to read “part B, will”.

Corrections to the 33 CFR Parts 104, 160, and 165 Regulatory Text

PART 104—GENERAL PROVISIONS

1. Correct part 104 by revising the authority citation to read as follows:

Authority: 33 U.S.C. 1226, 1231; 46 U.S.C. Chapter 701; 50 U.S.C. 191; 33 CFR 1.05-1, 6.04-11, 6.14, 6.16, and 6.19; Department of Homeland Security Delegation No. 0170.1.

§ 104.415 [Corrected]

2. In § 104.415(a)(2), correct the words “marine safety center” to read “Marine Safety Center”.

PART 160—PORT AND WATERWAY SAFETY—GENERAL

3. Correct part 160 by revising the authority citation to read as follows:

Authority: 33 U.S.C. 1223, 1231; 46 U.S.C. Chapter 701; Department of Homeland Security Delegation No. 0170.1. Subpart D is also issued under the authority of 33 U.S.C. 125 and 46 U.S.C. 3715.

PART 165—REGULATED NAVIGATION AREAS AND LIMITED ACCESS AREAS

4. Correct part 165 by revising the authority citation to read as follows:

Authority: 33 U.S.C. 1226, 1231; 46 U.S.C. Chapter 701; 50 U.S.C. 191, 195; 33 CFR 1.05-1(g), 6.04-1, 6.04-6 and 160.5; Department of Homeland Security Delegation No. 0170.1.

Corrections to the 46 CFR Parts 2, 31, 71, 91, 126, and 176 Regulatory Text

PART 2—VESSEL INSPECTIONS

1. Correct part 2 by revising the authority citation to read as follows:

Authority: 33 U.S.C. 1903; 43 U.S.C. 1333; 46 U.S.C. 3103, 3205, 3306, 3307, 3703; 46 U.S.C. Chapter 701; Executive Order 12234, 45 FR 58801, 3 CFR, 1980 Comp., p. 277; Department of Homeland Security Delegation No. 0170.1; subpart 2.45 also issued under the authority of Act Dec. 27, 1950, Ch. 1155, secs. 1, 2, 64 Stat. 1120 (see 46 U.S.C. App. Note prec. 1).

PART 31—INSPECTION AND CERTIFICATION

2. Correct part 31 by revising the authority citation to read as follows:

Authority: 33 U.S.C. 1321(j); 43 U.S.C. 2103, 3205, 3306, 3307, 3703; 46 U.S.C. Chapter 701; 49 U.S.C. 5103, 5106; Executive Order 12234, 45 FR 58801, 3 CFR, 1980 Comp., p. 277; Executive Order 12777, 56 FR 54757, 3 CFR, 1991 Comp., p. 351; Department of Homeland Security Delegation No. 0170.1; Section 31.10-021 also issued under the authority § 4109, Public Law 101-380, 104 Stat. 515.

PART 71—INSPECTION AND CERTIFICATION

3. Correct part 71 by revising the authority citation to read as follows:

Authority: 33 U.S.C. 1321(j); 46 U.S.C. 2113, 3205, 3306, 3307; 46 U.S.C. Chapter 701; Executive Order 12234, 45 FR 58801, 3 CFR, 1980 Comp., p. 277; Executive Order 12777, 56 FR 54757, 3 CFR, 1991 Comp., p. 351; Department of Homeland Security Delegation No. 0170.1.

PART 91—INSPECTION AND CERTIFICATION

4. Correct part 91 by revising the authority citation to read as follows:

Authority: 33 U.S.C. 1321(j); 46 U.S.C. 3205, 3306, 3307; 46 U.S.C. Chapter 701; Executive Order 12234; 45 FR 58801; 3 CFR, 1980 Comp., p. 277; Executive Order 12777, 56 FR 54757, 3 CFR, 1991 Comp., p. 351; Department of Homeland Security Delegation No. 0170.1.

PART 115—INSPECTION AND CERTIFICATION

5. Correct part 115 by revising the authority citation to read as follows:

Authority: 33 U.S.C. 1321(j); 46 U.S.C. 2103, 3205, 3306, 3307; 46 U.S.C. Chapter 701; 49 U.S.C. App. 1804; Executive Order 11735, 38 FR 21243, 3 CFR, 1971-1975 Comp., p. 743; Executive Order 12234, 45 FR 58801, 3 CFR, 1980 Comp., p. 277; Department of Homeland Security Delegation No. 0170.1.

PART 126—INSPECTION AND CERTIFICATION

6. Correct part 126 by revising the authority citation to read as follows:

Authority: 33 U.S.C. 1321(j); 46 U.S.C. 3205, 3306, 3307; 46 U.S.C. Chapter 701; Executive Order 111735, 38 FR 21243, 3 CFR 1971-1975 Comp., p. 793; Department of Homeland Security Delegation No. 0170.1.

PART 176—INSPECTION AND CERTIFICATION

7. Correct part 176 by revising the authority citation to read as follows:

Authority: 33 U.S.C. 1321(j); 46 U.S.C. 2103, 3205, 3306, 3307; 46 U.S.C. Chapter 701; 49 U.S.C. App. 1804; Executive Order 11735, 38 FR 21243, 3 CFR, 1971-1975 Comp., p. 277; Department of Homeland Security Delegation No. 0170.1.

Dated: July 11, 2003.
T.H. Gilmour,
Rear Admiral, U.S. Coast Guard, Assistant Commandant for Marine Safety, Security and Environmental Protection.

[FR Doc. 03-17979 Filed 7-15-03; 8:45 am]

BILLING CODE 4910-15-P